DEPARTMENT OF COMMERCE

Foreign-Trade Zones Board

[B-29-2019]

Foreign-Trade Zone (FTZ) 18—San Jose, California; Notification of Proposed Production Activity; Lam Research Corporation (Wafer Fabrication Equipment, Subassemblies and Related Parts), Fremont, Livermore and Newark, California

Lam Research Corporation (Lam) submitted a notification of proposed production activity to the FTZ Board for its facilities in Fremont, Livermore and Newark, California. The notification conforming to the requirements of the regulations of the FTZ Board (15 CFR 400.22) was received on April 25, 2019.

Lam already has authority to produce wafer manufacturing equipment within Subzone 18F. The current request would add a finished product and foreign status materials/components to the scope of authority. Pursuant to 15 CFR 400.14(b), additional FTZ authority would be limited to the specific foreign-status materials/components and specific finished product described in the submitted notification (as described below) and subsequently authorized by the FTZ Board.

Production under FTZ procedures could exempt Lam from customs duty payments on the foreign-status materials/components used in export production. On its domestic sales, for the foreign-status materials/components noted below and in the existing scope of authority, Lam would be able to choose the duty rates during customs entry procedures that apply to parts and assemblies of semiconductor manufacturing equipment (duty-free). Lam would be able to avoid duty on foreign-status components which become scrap/waste. Customs duties also could possibly be deferred or reduced on foreign-status production equipment.

The materials/components sourced from abroad include: Diluted hydrogen gas; freon gas; ammonia hydroxide solutions; potassium phosphate buffer solutions; sodium bicarbonate buffer solutions; hydrogen peroxide; antifoam emulsions; calcium glucomate; caulking compounds; polyvinyl chloride cements; mineral oils; teflon greases and similar synthetic oils; thermal joint compounds; petroleum-based greases and similar lubricants; scouring pastes and powders; retail-sale sealants, glues and pastes; polymer-based adhesives; industrial sealants, glues and pastes; carrier films; toner cartridges; organic solvents; sealants with activators; silicon or germanium wafers and partial wafers; PH buffer solutions and litmus papers; fluorine-based coolants; fluorinated and other polyether-based lubricants; epoxy resins; silicone cements and fillers; polyethylene tubes, pipes and hoses; polypropylene tubing; polyvinyl chloride tubing; plastic tubing; flexible plastic tubes, pipes and hoses; flexible plastic tubing with and without fittings; plastic tube fittings; electrical tapes; foam tapes; reflective tapes; scotch tapes, packing tapes and similar tapes; plastic labels; plastic panels, plates and structural components; polymer plastic signs and plates; plastic cutting sheets; polycarbonate windows; plastic shims and spacers; polyester-plastic shims; teflon wraps and pads; foam-block silicon adhesives; protection and insulation pads and wipes of polyurethane plastics; plastic film sheets and foam strips; plastic templates; flexible plastic panels, plates and structural components; rigid plastic panels, plates and structural components; plastic boxes and crates; polyethylene bags and packing materials; other plastic bags and packaging materials; polypropylene and fluoropolymer-plastic reservoirs and tanks; plastic caps; plastic packing materials; plastic ductwork; heavy duty plastic gloves; plastic aprons and similar protective clothing; plastic handles and levers; plastic furniture hinges, mounts, latches and brackets, hole plugs, screw pins and similar fasteners, templates for facilities layout, tinting lenses, and wafer clamps; plastic clips and similar attaching devices; plastic O-rings, gaskets, washers and seals; plastic timing belts; retaining rings of rubber; soft rubber tubing; unreinforced rubber tubing with fittings; reinforced rubber tubing without fittings; soft rubber tubing with fittings; vulcanized rubber belts; transmission belts; disposable gloves; non-disposal gloves; rubber gaskets, washers and seals; rubber caps; rubber sheets, grommets, bladders, collars, and O-rings; plastic tool containers; strain relief caps; plastic case covers; silicone plastic tablet covers; wooden crates; tissues and cleansing wipes; paperboard and cardboard packaging materials; paper labels; paperboard labels; paper gaskets, washers and other seals; technical manuals, procedures and work instructions; schematics, diagrams and similar technical drawings; right to use documentation; certificates, brochures and other work documents; velcro tapes; nylon lines; duct tapes; nylon support slings; face shields, protective caps and hard hats; abrasive pads, disks and strips; graphite and carbon fiber disks; aluminum oxide or yttria oxide porcelain or china ceramic rings, disks, plates, liners, shields, guards, end effectors, plugs, screws, components and accessories; aluminum oxide or yttria oxide ceramic rings, disks, plates, liners, shields, guards, end effectors, plugs, screws, components and accessories; slurry troughs and similar ceramic dispensers; light pipes; safety glass windows; lamp bulbs; reflectors and collimators; fused silica and quartz disks, windows, liners, rings, tubes holders, funnels and components; beakers and similar equipment for conveying chemicals; viewports; fiberglass gaskets, spacers and fasteners; fiberglass; rings; fiberglass washers; quartz reactor tubes; sapphire pins, balls, shims, windows, viewports, liners, tubes, components and accessories; steel pipes; iron fittings; cast steel fittings; stainless steel flanges; stainless steel elbows, pipe and sleeves; stainless steel butt weld fittings; non-cast stainless steel fittings for tubes and pipe; other fittings of zinc-coated carbon steel; stainless steel canisters and chemical tanks; rope winches; braided steel support cables and wires; steel roller chains; steel link chains; steel guard chains, driver chains, roller chains and links; steel chain links; belt chains; steel tie down straps; steel pins; steel eyebolts; steel grub screws; steel screws and springs; steel socket head screws; steel nuts; threaded steel fasteners; steel spring washers; iron and steel washers; steel retaining rings; unthreaded steel fasteners; steel leaf springs; steel springs; steel gas springs, wave springs, plunger springs and compression springs; cast steel springs; steel wire belts and inserts; steel bushings, collars, blocks, rings, seals and plates; copper bus bars, ground bars and rods; copper conductor bars; copper tubing; copper pipe fittings; copper alloy for tubes and pipes; copper washers; small brass screws; copper threaded fittings; copper straps, anodes, sleeves, shields, gaskets, pins and screens; nickel screws; nickel straps, anodes, sleeves, shields, gaskets, pins and screens; aluminum top hat rails and clips; aluminum bus bars, ground bars and rods; aluminum nameplates; aluminum rails and rods; aluminum tape; aluminum labels; aluminum tubing; aluminum alloy tubing; aluminum fittings for tubes and pipes; aluminum fasteners; aluminum screws; aluminum vacuum port screens; aluminum covers, spinners, sleeves and screens; zinc fittings, screws, fasteners and back shells; tin anodes; tin pellets; titanium pins and screws; jab saws; saw blades; pliers; knockout punches and hose cutters; hand-operated adjustable flat spanners and torque wrenches; hand operated adjustable spanners and wrenches; socket wrenches; drills; hammers; screwdrivers; extraction tools, debar tools, epoxy removal tips and install tools; grease guns; metal clamps; insertion and extraction tool sets; helicoil and pipe tapping tools; manual drills; drill bits; retractable knives; scissors; padlocks; locks; metal latches with hooks; keys; aluminum alloy, 304 or 326 stainless steel or brass hinges and hinge parts; zinc plated carbon steel, aluminum alloy, 304 or 316 stainless steel or brass casters; metal, hardware type brackets and mounts; metal fittings; iron, steel, aluminum or zinc mountings, fittings, straps, clamps, brackets levelers struts and valves; base metal brackets; braided steel tubing and hoses; braided metal tubing; air cylinders and other pneumatic power engines; non-linear acting pneumatic power engines; magnetically actuating cylinders; pneumatic engine parts; shock absorbers; diaphragm pumps; hydraulic fluid pumps; centrifugal pumps; syringe and other pumps; centrifugal pump parts; vacuum pumps; cryo-compressors; fans; condensers and compressors; fan parts; heat exchange units; evaporators; heaters; heat exchange unit parts; heater parts; water filters; liquid filtration devices; air and gas filtration devices; filter parts; balancing scales; weight measurement equipment; weights; fire suppression and extinguishing systems; fluid distribution system nozzles and orifices; chemical applicators; nozzles and orifices; hoists; scissor jacks; lift and handling fixtures; housing and plain shaft bearings; lift fixtures and parts; calibration disks; barcode and thermal printers; slug buster punches; equipment chucks and fixtures; electric drills; punches and blades; helicoil repair kits; electric pipe and cable cutters; laptop computers; computers; computer keyboards and peripherals; keyboards; hard disk and optical drives; peripheral interface hardware for computers; hubs; interface and input/output cards; optical readers; tablet docking stations; printed circuit assemblies; teaching pendants and terminals; plates, pads, lift fixtures and related components; pressure reducing valves; airflow control valves; check valves; safety valves; brass bellows, butterfly, ball, vacuum and other manual valves; fluorocarbon, polyether and polyvinyl chloride bellows, butterfly, ball, vacuum and other manual valves; steel bellows, butterfly, ball, vacuum and other manual valves; solenoid, liquid control, electric, automatic and pneumatic valves; valve parts; ball bearings; tapered roller bearings; roller bearings; needle roller bearings; cylindrical roller bearings; roller bearings, balls screws and radial ball bearings; shafts, rollers, blocks and balls for bearings; bearing rings; transmission shafts; housed and plain shaft bearings; fixed, multiple and variable ratio speed changers, ball or roller screws; pulleys; shaft couplings; steel gear parts; mechanical gaskets of nickel, aluminum foil, tin/lead-plated beryllium copper, aluminum alloy or 316 stainless steel; mechanical seals of nickel, aluminum foil, tin/lead-plated beryllium copper, aluminum alloy or 316 stainless steel; gaskets of nickel, aluminum foil, tin/lead-plated beryllium copper, aluminum alloy or 316 stainless steel; chemical/mechanical planarization and other wafer surface modification equipment; machines for semiconductor production; tools and process modules for chemical vapor deposition; tools and process modules for physical vapor deposition; tools and process modules for plasma dry etch of materials; tools and process modules for plasma etch of bevel edges; tools and process modules for stripping of photo resist material; tools and process modules for ultraviolet thermal processing; tools and process modules for wafer cleaning; etch systems; conductor material deposition process modules; transport modules; wafer transport robots; mask manufacturing and electronic circuit assembly machines; baffles; bellows; bezels; gas and fluid distribution tubing; pneumatic harnesses; drive units for process modules; fluid and gas distribution modules and assemblies; fluid management tanks; plasma sources; printed circuit board assemblies and control assemblies; radio frequency and high frequency coils, electrodes and related parts; radio frequency generators and related structural components; radio frequency matching networks and related structural components; silicon rings; structural elements of semiconductor manufacturing equipment and transport modules; wafer chucks and related parts; mechanical brakes; electric motors; universal AC/DC motors >37.5 watts; DC motors with output ≤750W; DC motors with output >750W and ≤75kW; AC motors with output >74.6W and ≤746W; AC motors with output ≤750W; AC motors with output >750W and ≤4.92 kW; pistons, guards, and similar components; lamp ballasts; electrical transformers not exceeding 1 kVA; electrical transformers with output of 1 kVA to 16 kVA; electrical transformers with output >16 kVA up to 500 kVA; power supplies and static converters; inductors; parts of power supplies; magnets; magnetic brakes; electro-magnetic load coil and sensor magnets; manganese dioxide batteries; lithium batteries; off-the-shelf batteries; lead storage batteries; nickel metal hybrid batteries; portable electric lamps; induction heaters; other heaters; heating elements and induction heaters; resistive heating elements; thermofoil; network equipment; input/output cards and panels; load cell, servo and proximity amplifiers; digital video recorders; training video tapes; unrecorded magnetic media; DVDs; software; flash memory cards; badges; transponder readers; video cameras; cathode ray tube monitors; LCD computers; LCD color flat screen monitors; general use motors; camera covers and holders; smoke detectors and sensors; LED indicators; electric sound or visual signaling apparatus; sensors, lenses, frames and other parts of smoke detectors; tantalum fixed capacitors; aluminum electrolytic fixed capacitors; single layer ceramic dielectric fixed capacitors; multi-layer fixed capacitors; dielectric fixed capacitors; fixed electrical capacitors; variable and adjustable capacitors; tube holders and mountings; composition or film-type fixed attenuators; resistors; fixed carbon resistors and attenuators; electrical variable resistors other than potentiometers; potentiometers; raw circuit boards; ion bars; high and low amp fuses made of glass and other materials; high and low amp circuit breakers; circuit breakers; electromechanical relays with low amp and low volt contactors; electromechanical relays with low amp and high volt contactors and high volt and high amp solid state relays; switches; lamp holders and contactors; connectors; assemblies; converters; receptacle panels; interlock converters, electrical ducts and lock outs; terminals and connectors; connectors for optical cables; conduit assemblies, back shells, buses and similar connectors; electrical terminals and terminal blocks; control apparatus, assemblies, couplers, cards, valve cards, load ports, terminal boards, programmable controllers and motion controllers; chassis, panels and boards for power distribution modules and similar controllers; supports, ferrules, fuse holders and similar parts of connectors; connector sockets; tungsten lamps; incandescent lamps and bulbs of a power >15W−<=150W; incandescent lamps and bulbs of a power >=12V−<14V; fluorescent lamps; discharge lamps other than ultraviolet lamps; arc lamps; ultraviolet lamps; LED lamps; electrical filament and discharge lamp parts; magnetrons and magnetron tubes; electromagnetic interference shield rings; diodes; transistors; power block modules; LED lamps, oscillators, photosensors and fiber optic sensors; crystal oscillators; photosensor parts; processor and logic controller integrated circuits; memory cards; integrated circuit amplifiers; other non-processor, non-memory integrated circuits; electrolysis equipment; insulated electrical cable wire; coaxial cables; cables with connectors; USB, ethernet and similar telecommunications cables with connectors; insulated wire cables without connectors; cables for voltage exceeding 1,000V; fiber optic cables; graphite electrodes; quartz insulators and insulator elements; ceramic insulators; electrical insulators; ceramic insulator fittings; plastic insulator fittings; quartz rings; electric filter devices; dollies; optical fibers; optical lenses and mirrors; optical sights; optical filters and windows; mounted windows and lenses; prisms; protective eyeglass frames; goggles and similar protective spectacles; compound optical microscopes; lasers for metrology and endpoint systems; flat panel displays; optical amplifiers; optical light guide lenses; non-electric levels; calipers and linear gauges; length measuring hand instruments; caliper clamps and heads; linear gauge clamps and heads; syringes; face shields with respirators; thermometers, thermocouples and temperature gauges; temperature monitors and hydrometers; thermocouple sensors and adaptors; flow meters, level gauges and similar fluid measuring equipment; electrical pressure checking and measurement equipment; mechanical pressure checking and measurement equipment; interferometers and hydrogen sensors; leak sensors; diaphragms, guards, adapters, gauges, vacuum filters and similar parts for flow and pressure meters; gas analysis systems; monochromators; spectrometers; optical temperature sensors; PH analysis sensors, controllers, probes and complete systems; gas analysis system parts; digital counters; speedometers and tachometers; infrared sensors and radiation sensing equipment; multimeters; power analyzers such as voltage detectors, probes, monitors and measurement cards; test fixtures and similar electrical analysis systems; wafer measurement equipment; leak detectors; electrical quantity checking machinery parts; semiconductor wafer inspection equipment; optical inspection equipment; measuring equipment; panels, frames, boards, blocks, doors, jigs, shafts, sides and structural bases for test fixtures and electrical analysis systems; automatic thermostats and temperature control equipment; automatic manostats; temperature, pressure, liquid, mass flow, pump and similar process control equipment; vapor on demand injectors; temperature controller parts; time switches, relays and other timers; carts and racks for servers; carts for holding and moving power distribution equipment; fluorescent lamp fixtures; brushes; and pens and markers (duty rate ranges from duty free to 20%). The request indicates that certain materials/components are subject to special duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is June 24, 2019.

A copy of the notification will be available for public inspection in the “Reading Room” section of the Board's website, which is accessible via www.trade.gov/ftz.

For further information, contact Christopher Wedderburn at Chris.Wedderburn@trade.gov or (202) 482-1963.

Dated: May 9, 2019.
Andrew McGilvray,
Executive Secretary.

[FR Doc. 2019-09907 Filed 5-13-19; 8:45 am]

BILLING CODE 3510-DS-P